DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public the Substance Abuse and Mental Health Services Administration (SAMHSA) is supporting a supplement in scope of the original award to the University of North Carolina funded in FY 2018 under the National Center of Excellence for Eating Disorders (NCEED), Notice of Funding Opportunity (NOFO) SM-18-021. The recipient may receive up to $747,646. The supplemental funding will extend the project period by 12-months until September 29, 2024 and will: continue to develop and disseminate high-quality training and technical assistance to healthcare practitioners on issues related to eating disorders; facilitate the identification of model eating disorder programs; provide the most up-to-date information on eating disorders; and promote public awareness of eating disorders.

FOR FURTHER INFORMATION CONTACT: Nancy Kelly, Chief, Mental Health Prevention Branch, Substance Abuse and Mental Health Services Administration, 5600 Fishers Lane, Rockville, MD 20857, telephone 240-276-1143; email: nancy.kelly@samhsa.hhs.gov.

SUPPLEMENTARY INFORMATION:

Funding Opportunity Title: FY 2018 Center of Excellence for Eating Disorders (NCEED) Notice of Funding Opportunity SM-18-021.

Assistance Listing Number: 93.243.

Authority: The NCEED is authorized under section 520A (290bb-32) of the Public Health Service Act, as amended.

Justification: Eligibility for this supplemental funding is limited to the University of North Carolina, which was funded in FY 2018 under the NCEED NOFO SM-18-021. The University of North Carolina has special expertise to develop and disseminate training and technical assistance for healthcare practitioners on issues related to addressing eating disorders.

This is not a formal request for application. Assistance will only be provided to NCEED recipient (University of North Carolina) funded in FY 2018 based on the receipt of a satisfactory application and associated budget that is approved by a review group.

Dated: April 26, 2023.
Ann Ferrero,
Public Health Analyst.

[FR Doc. 2023-09139 Filed 4-28-23; 8:45 am]

BILLING CODE 4162-20-P